DEPARTMENT OF THE INTERIOR

Bureau of Land Management

[ID-957-1420-BJ]

Idaho: Filing of Plats of Survey

AGENCY: Bureau of Land Management, Interior.

ACTION: Notice.

SUMMARY: The plats of the following described lands were officially filed in the Idaho State Office, Bureau of Land Management, Boise, Idaho, effective 9 a.m., on the dates specified:

The plat representing the dependent resurvey of a portion of the south boundary, and a portion of the subdivisional lines, and the subdivision of section 35 and the metes-and-bounds survey of lots 2 and 4, section 35, in T. 14 N., R. 18 E., Boise Meridian, Idaho, was accepted October 29, 2001. The plat was prepared to meet certain administrative needs of the Bureau of Land Management.

The plat representing the dependent resurvey of portions of the south boundary, the corrective dependent resurvey of portions of the south boundary, the dependent resurvey of portions of the subdivisional lines, the corrective dependent resurvey of portions of the subdivisional lines, and the dependent resurvey of portions of Tract 37, and the subdivision of sections 29 and 32, and the metes-and-bounds survey of Tract 38, in T. 2N., R. 4 W., Boise Meridian, Idaho, was accepted November 1, 2002. The plat was prepared to meet certain administrative needs of the Bureau of Land Management.

The plat for T. 1 S., R. 2 W. and T. 1 S., R. 1 W., Boise Meridian, Idaho, was accepted November 6, 2001. The plat was prepared to meet certain administrative needs of the U.S. Fish and Wildlife Service.

The plat representing the dependent resurvey of a portion of the subdivisional lines, and the subdivision of section 11, in T. 1 S., R. 3 W., Boise Meridian, Idaho, was accepted November 8, 2001. The plat was prepared to meet certain administrative needs of the Bureau of Land Management.

The plat representing the dependent resurvey of portions of the first standard parellel south, T. 6 S., R. 24 E., portions of the east boundary, and of the subdivisional lines and the subdivision of sections 5, 9, 14, 15, and 24, in T. 7 S., R. 25 E., Boise Meridian, Idaho, was accepted November 13, 2001.

The plat was prepared to meet certain administrative needs of the Bureau of Land Management.

The plat representing the depending resurvey of a portion of the west boundary, and a portion of the subdivisional lines, and the subdivision of sections 19 and 20, in T. 7 S., R. 26 E., Boise Meridian, Idaho, was accepted November 14, 2001. The plat was prepared to meet certain administrative needs of the Bureau of Land Management.

The plat representing the dependent resurvey of a portion of the subdivisional lines of T. 4 N., R. 2 E., Boise Meridian, Idaho, was accepted November 30, 2001. The plat was prepared to meet certain administrative needs of the Bureau of Land Management.

The plat representing the dependent resurvey of a portion of the north boundary and a portion of the subdivisional lines, and the subdivision of section 2, in T. 1 N., R. 1 W., Boise Meridian, Idaho, was accepted December 5, 2001. The plat was prepared to meet certain administrative needs of the Birds of Prey National Conservation Area.

The plat representing the dependent resurvey of portions of the subdivisional lines, H.E.S. 37, H.E.S. 38, and of the boundaries of certain mineral surveys, and the subdivision of sections 2 and 3, and certain metes-and-bounds surveys in sections 2 and 3, in T. 5 N., R. 11 E., Boise Meridian, Idaho, and the plat representing the dependent resurvey of portions of the first standard parallel north, the subdivisional lines, and of H.E.S. 39, and the subdivision of section 34, and a metes-and-bounds survey in section 34, in T. 6 N., R. 11 E., Boise Meridian, Idaho, were accepted December 7, 2001. The plats were prepared to meet certain administrative needs of the U.S.D.A., Forest Service.

FOR FURTHER INFORMATION CONTACT: Duane E. Olsen, Chief, Cadastral Survey, Idaho State Office, Bureau of Land Management, 1387 South Vinnell Way, Boise, Idaho, 83709-1657, 208-373-3980.

Dated: January 9, 2002.
Duane E. Olsen,
Chief, Cadastral Surveyor for Ohio.

Editorial note: This document was received at the Office of the Federal Register on July 25, 2002.

[FR Doc. 02-19187 Filed 7-29-02; 8:45 am]

BILLING CODE 4310-GG-M